LIBRARY OF CONGRESS

Copyright Office

37 CFR Chapter II

[Docket No. 2019-7]

Online Publication; Extension of Comment Period

AGENCY: U.S. Copyright Office, Library of Congress.

ACTION: Notification of inquiry; extension of reply comment period.

SUMMARY: The U.S. Copyright Office is extending the deadline for the submission of written reply comments in response to its December 4, 2019 notification of inquiry regarding online publication.

DATES: The reply comment period for the notification of inquiry published December 4, 2019, at 84 FR 66328, is extended. Written reply comments must be submitted no later than 11:59 p.m. Eastern Time on June 15, 2020.

ADDRESSES: For reasons of government efficiency, the Copyright Office is using the regulations.gov system for the submission and posting of public comments in this proceeding. All comments are therefore to be submitted electronically through regulations.gov. Specific instructions for submitting comments are available on the Copyright Office's website at https://www.copyright.gov/rulemaking/online-publication/. If electronic submission of comments is not feasible due to lack of access to a computer and/or the internet, please contact the Office using the contact information below for special instructions.

FOR FURTHER INFORMATION CONTACT: Regan A. Smith, General Counsel and Associate Register of Copyrights, by email at regans@copyright.gov, Robert J. Kasunic, Associate Register of Copyrights and Director of Registration Policy and Practice, by email at rkas@copyright.gov, or Jordana Rubel, Associate General Counsel, by email at jrubel@copyright.gov. Each can be contacted by telephone by calling (202) 707-3000.

SUPPLEMENTARY INFORMATION: On December 4, 2019, the U.S. Copyright Office issued a notification of inquiry regarding online publication. 84 FR 66328 (Dec. 4, 2019). The Office solicited public comments on a broad range of issues concerning the application of the statutory definition of publication to the online context. The Office subsequently extended the deadline for the submission of comments to March 19, 2020 and the deadline for the submission of reply comments to April 16, 2020. 85 FR 3303 (Jan. 21, 2020).

Given the large number of substantive comments the Office received and the widespread disruption caused by the coronavirus, the Office believes it would be beneficial to provide additional time for reply comments to ensure that members of the public have sufficient time to comment and that the Office has the benefit of a complete record. The Office is therefore extending the deadline for the submission of reply comments to no later than 11:59 p.m. Eastern Time on June 15, 2020.

Dated: March 30, 2020.
Regan A. Smith,
General Counsel and Associate Register of Copyrights.

[FR Doc. 2020-06979 Filed 4-8-20; 8:45 am]

BILLING CODE 1410-30-P